FEDERAL COMMUNICATIONS COMMISSION

[WT Docket No. 11-35; DA 11-613]

Wireless Telecommunications Bureau Extends Period for Filing Comments and Reply Comments on Petition for Declaratory Ruling Asking To Clarify the Scope of Preemption of Wireless Entry Regulation

AGENCY: Federal Communications Commission.

ACTION: Notice; extension of filing and reply comment period.

SUMMARY: In this document, the Wireless Telecommunications Bureau extends the deadline for filing comments and reply comments in response to the Public Notice seeking comment on the December 3, 2010 petition for declaratory ruling (Petition) filed by CTIA—The Wireless Association (Petitioners). The Petitioners asked the Federal Communications Commission (Commission) to clarify “the scope of Section 332(c)(3)(A)'s ban on state and local entry regulation.”

DATES: Interested parties may file comments on or before June 10, 2011, and reply comments on or before July 11, 2011.

ADDRESSES: You may submit comments, identified by WT Docket No. 11-35, by any of the following methods:

• Federal eRulemaking Portal: http://www.regulations.gov. Follow the instructions for submitting comments.

• Federal Communications Commission's Web Site: http://fjallfoss.fcc.gov/ecfs2/. Follow the instructions for submitting comments.

• People with Disabilities: Contact the FCC to request reasonable accommodations (accessible format documents, sign language interpreters, CART, etc.) by e-mail: FCC504@fcc.gov or phone: 202-418-0530 or TTY: 202-418-0432.

For detailed instructions for submitting comments and additional information on the rulemaking process, see the supplementary information section of this document.

FOR FURTHER INFORMATION CONTACT: Jennifer Salhus, Spectrum and Competition Policy Division, Wireless Telecommunications Bureau, 202-418-1310.

SUPPLEMENTARY INFORMATION: This is a summary of the Commission's Public Notice released on April 5, 2011. The full text of the public notice is available for public inspection and copying during business hours in the FCC Reference Information Center, Portals II, 445 12th Street, SW., Room CY-A257, Washington, DC 20554. It also may be purchased from the Commission's duplicating contractor at Portals II, 445 12th Street, SW., Room CY-B402, Washington, DC 20554; the contractor's Web site, http://www.bcpiweb.com; or by calling (800) 378-3160, facsimile (202) 488-5563, or e-mail FCC@BCPIWEB.com. Additionally, the complete item is available on the Federal Communications Commission's Web site at http://www.fcc.gov.

On February 25, 2011, the Wireless Telecommunications Bureau (Bureau) released a Public Notice seeking comment on the CTIA petition for declaratory ruling asking the Commission to clarify “the scope of Section 332(c)(3)(A)'s ban on state and local entry regulation.” The Petitioners stated that the Connecticut Department of Public Utility Control (Connecticut PUC) “ordered that wireless providers must apply for and obtain a Certificate of Public Convenience and Necessity (CPCN) from the [Connecticut PUC] before they can request permission to access public rights-of-way.” The Petitioners asked the Commission to declare that Connecticut's CPCN requirement is a form of entry regulation that is prohibited by section 332(c)(A)(3).

On April 1, 2011, the Petitioners along with the Connecticut PUC (collectively, the “Parties”) submitted a joint request for a 60-day extension of the comment and reply comment deadlines in this proceeding. The Parties state that the Connecticut PUC recently published draft changes to the requirements at issue in this matter and that a 60-day extension is “in the public interest because it will allow commenters a meaningful period of time to review, analyze, and respond to any final actions the [Connecticut PUC] takes on the draft decision.”

The Bureau finds that granting the Parties' request and extending the comment and reply comment deadlines by 60 days is in the public interest. Extending the comment period will ensure that parties have sufficient time to consider and address developments in this matter and the extent to which they moot the controversy at issue in the Petition. Therefore, interested parties will now have until June 10, 2011 to file comments and July 11, 2011 to file reply comments as opposed to the April 11, 2011 and May 11, 2011 deadlines set forth in the Public Notice.

Pursuant to §§ 1.415 and 1.419 of the Commission's rules, 47 CFR 1.415, 1.419, interested parties may file comments and reply comments on or before the dates indicated above. Comments may be filed using: (1) The Commission's Electronic Comment Filing System (ECFS), (2) the Federal Government's eRulemaking Portal, or (3) by filing paper copies. See Electronic Filing of Documents in Rulemaking Proceedings, 63 FR 24121 (1998).

• Electronic Filers: Comments may be filed electronically using the Internet by accessing the ECFS: http://fjallfoss.fcc.gov/ecfs2/ or the Federal eRulemaking Portal: http://www.regulations.gov.

• Paper Filers: Parties who choose to file by paper must file an original and four copies of each filing. If more than one docket or rulemaking number appears in the caption of this proceeding, filers must submit two additional copies for each additional docket or rulemaking number.

Filings can be sent by hand or messenger delivery, by commercial overnight courier, or by first-class or overnight U.S. Postal Service mail (although we continue to experience delays in receiving U.S. Postal Service mail). All filings must be addressed to the Commission's Secretary, Office of the Secretary, Federal Communications Commission.

• All hand-delivered or messenger-delivered paper filings for the Commission's Secretary must be delivered to FCC Headquarters at 445 12th St., SW., Room TW-A325, Washington, DC 20554. The filing hours are 8 a.m. to 7 p.m. All hand deliveries must be held together with rubber bands or fasteners. Any envelopes must be disposed of before entering the building.

• Commercial overnight mail (other than U.S. Postal Service Express Mail and Priority Mail) must be sent to 9300 East Hampton Drive, Capitol Heights, MD 20743.

• U.S. Postal Service first-class, Express, and Priority mail must be addressed to 445 12th Street, SW., Washington DC 20554.

People with Disabilities: To request materials in accessible formats for people with disabilities (braille, large print, electronic files, audio format), send an e-mail to fcc504@fcc.gov or call the Consumer & Governmental Affairs Bureau at 202-418-0530 (voice), 202-418-0432 (tty).

Federal Communications Commission.
Nese Guendelsberger,
Chief, Spectrum and Competition Policy Division, Wireless Telecommunications Bureau.

[FR Doc. 2011-9199 Filed 4-15-11; 8:45 am]

BILLING CODE 6712-01-P